DEPARTMENT OF ENERGY

Federal Energy Regulatory Commission

[Docket No. EL16-105-000]

The Goodyear Tire & Rubber Company v. Entergy Texas, Inc.; Notice of Complaint

Take notice that on August 9, 2016, pursuant to sections 206 and 306 of the Federal Power Act, 16 U.S.C. 824e and 825e (2012) and Rule 206 of the Federal Energy Regulatory Commission's (Commission) Rules of Practice and Procedure, 18 CFR 385.206, The Goodyear Tire & Rubber Company (Goodyear or Complainant) filed a formal complaint against Entergy Texas, Inc., (ETI or Respondent) alleging that the Respondent's proposed termination of the Agreement for Purchased Power between Goodyear and ETI (PPA) is contrary to ETI's obligation to purchase energy and capacity from Goodyear pursuant to section 292.303 of Commission's regulations implementing the Public Utility Regulatory Policies Act, and the Commission's January 21, 2016 Order, granting in part, ETI's application to terminate its mandatory purchase obligation,¹ as more fully explained in the complaint.

¹ Entergy Services, Inc., et al., 154 FERC ¶ 61,035 (2016) (“January 21 Order”). The application was filed by Entergy Services, Inc. on behalf of ETI and other subsidiaries; this complaint refers to the application as being filed by ETI.

Complainant certifies that copies of the complaint were served on the contacts for Respondent as listed on the Commission's list of Corporate Officials, as well as through individuals who send and receive notices under the PPA.

Any person desiring to intervene or to protest this filing must file in accordance with Rules 211 and 214 of the Commission's Rules of Practice and Procedure (18 CFR 385.211 and 385.214). Protests will be considered by the Commission in determining the appropriate action to be taken, but will not serve to make protestants parties to the proceeding. Any person wishing to become a party must file a notice of intervention or motion to intervene, as appropriate. The Respondent's answer and all interventions, or protests must be filed on or before the comment date. The Respondent's answer, motions to intervene, and protests must be served on the Complainants.

The Commission encourages electronic submission of protests and interventions in lieu of paper using the “eFiling” link at http://www.ferc.gov. Persons unable to file electronically should submit an original and 5 copies of the protest or intervention to the Federal Energy Regulatory Commission, 888 First Street NE., Washington, DC 20426.

This filing is accessible on-line at http://www.ferc.gov, using the “eLibrary” link and is available for review in the Commission's Public Reference Room in Washington, DC. There is an “eSubscription” link on the Web site that enables subscribers to receive email notification when a document is added to a subscribed docket(s). For assistance with any FERC Online service, please email FERCOnlineSupport@ferc.gov, or call (866) 208-3676 (toll free). For TTY, call (202) 502-8659.

Comment Date: 5:00 p.m. Eastern Time on August 25, 2016.

Dated: August 10, 2016.
Nathaniel J. Davis, Sr.,
Deputy Secretary.

[FR Doc. 2016-19468 Filed 8-15-16; 8:45 am]

BILLING CODE 6717-01-P